INTERNATIONAL TRADE COMMISSION

[Investigation Nos. 701-TA-738 and 731-TA-1713-1715 (Final)]

Hexamine from Germany, India, and Saudi Arabia; Revised Schedule for the Subject Proceeding

AGENCY: United States International Trade Commission.

ACTION: Notice.

DATES: November 17, 2025.

FOR FURTHER INFORMATION CONTACT: Charles Cummings (202-708-1666), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this proceeding may be viewed on the Commission's electronic docket (EDIS) at https://edis.usitc.gov.

SUPPLEMENTARY INFORMATION: Effective September 23, 2025, the Commission established a schedule for the conduct of the subject proceeding (90 FR 47327, October 1, 2025). Due to the lapse in appropriations and ensuing cessation of Commission operations, the Commission is revising its schedule as follows: the deadline for filing supplemental party comments on Commerce's final countervailing duty and antidumping duty determinations is 5:15 p.m. on November 19, 2025. Supplemental party comments may address only Commerce's final countervailing duty determinations regarding imports of hexamine from India (90 FR 45720, September 23, 2025) and Commerce's final antidumping duty determinations regarding imports of hexamine from Germany, India, and Saudi Arabia (90 FR 45728, 45725, and 45723, September 23, 2025). These supplemental final comments may not contain new factual information and may not exceed five (5) pages in length. The supplemental staff report in the final phase of the current investigations will be placed in the nonpublic record on December 2, 2025, and a public version will be issued thereafter.

For further information concerning this proceeding, see the Commission's notice cited above and the Commission's Rules of Practice and Procedure, part 201, subparts A and B (19 CFR part 201), and part 207, subparts A and C (19 CFR part 207).

Authority: This proceeding is being conducted under authority of title VII of the Tariff Act of 1930; this notice is published pursuant to section 207.21 of the Commission's rules.

By order of the Commission.
Issued: November 17, 2025.
Lisa Barton,
Secretary to the Commission.

[FR Doc. 2025-20341 Filed 11-19-25; 8:45 am]

BILLING CODE 7020-02-P